DEPARTMENT OF EDUCATION

Advisory Committee on Student Financial Assistance: Meeting

AGENCY: Advisory Committee on Student Financial Assistance, ED.

ACTION: Cancellation notice of an opening meeting/hearing.

SUMMARY: The Advisory Committee on Student Financial Assistance gives notice of the cancellation of the meeting scheduled for September 19, 2013 announced in the Federal Register on August 21, 2013 in Vol. 78, No. 162.

The meeting will be rescheduled for a date to be announced in the future.

FOR FURTHER INFORMATION CONTACT: Ms. Janet Chen, Director of Programs, Advisory Committee on Student Financial Assistance, Capitol Place, 80 F Street NW., Suite 413, Washington DC 20202-7582, (202) 219-2099; http://www2.ed.gov/ACSFA.

Dated: September 5, 2013.
William J. Goggin,
Executive Director, Advisory Committee on Student Financial Assistance.

[FR Doc. 2013-22068 Filed 9-10-13; 8:45 am]

BILLING CODE 4000-01-P